DEPARTMENT OF THE INTERIOR

Bureau of Land Management

[LLORM00000-L12200000.DF0000-223. HAG22-0009]

Call for Nominations for the Western Oregon Resource Advisory Council

AGENCY: Bureau of Land Management, Interior.

ACTION: Notice of call for nominations.

SUMMARY: The purpose of this notice is to request public nominations for the Bureau of Land Management's (BLM) Western Oregon Resource Advisory Council (RAC) to fill vacant positions and positions that will become vacant. The RAC provides advice and recommendations to the BLM on land use planning and management of the National System of Public Lands within its geographic area.

DATES: The Medford District Office will accept public nominations until April 4, 2022.

ADDRESSES: Nominations and completed applications should be sent to Kyle Sullivan, Public Affairs Specialist, Medford District, 3040 Biddle Road, Medford, OR 97504; Attention: Western Oregon RAC Nominations; or emailed to ksullivan@blm.gov with the subject line “Western Oregon RAC Nominations.”

FOR FURTHER INFORMATION CONTACT: Kyle Sullivan, Public Affairs Specialist, Medford District, telephone: (541) 618-2340; email: ksullivan@blm.gov. Individuals in the United States who are deaf, deafblind, hard of hearing, or have a speech disability may dial 711 (TTY, TDD, or TeleBraille) to access telecommunications relay services for contacting Mr. Sullivan. Individuals outside the United States should use the relay services offered within their country to make international calls to the point-of-contact in the U.S.

SUPPLEMENTARY INFORMATION: The Federal Land Policy and Management Act (FLPMA) directs the Secretary of the Interior to involve the public in planning and issues related to management of lands administered by the BLM, through the establishment of 10- to 15-member citizen-based advisory councils that are managed in accordance with the Federal Advisory Committee Act (FACA). As required by FACA, RAC membership must be balanced and representative of the various interests concerned with the management of the public lands. The rules governing RACs are found at 43 CFR subpart 1784.

The RAC is seeking nominations in the following categories:

Category One—Holders of Federal grazing permits or leases within the area for which the RAC is organized; represent interests associated with transportation or rights-of-way; represent developed outdoor recreation, off-highway vehicle users, or commercial recreation activities; represent the commercial timber industry; or represent energy and mineral development.

Category Two—Representatives of nationally or regionally recognized environmental organizations; dispersed recreational activities; archaeological and historical interests; or nationally or regionally recognized wild horse and burro interest groups.

Category Three—Hold State, county, or local elected office; are employed by a State agency responsible for the management of natural resources, land, or water; represent Indian tribes within or adjacent to the area for which the RAC is organized; are employed as academicians in natural resource management or the natural sciences; or represent the affected public at large.

Individuals may nominate themselves or others. If you have already applied in 2020 or 2021, your nomination is still being considered and you do not need to reapply. Nominees must be residents of the State of Oregon. The BLM will evaluate nominees based on their education, training, experience, and knowledge of the geographic area of the RAC. Nominees should demonstrate a commitment to collaborative resource decision-making.

The following must accompany all nominations:

—A completed RAC application, which can either be obtained through your local BLM office or online at: https://www.blm.gov/sites/blm.gov/files/1120-019_0.pdf.

—Letters of reference from represented interests or organizations; and

—Any other information that addresses the nominee's qualifications.

Simultaneous with this notice, the BLM will issue a press release providing additional information for submitting nominations.

(Authority: 43 CFR 1784.4-1)

Elizabeth R. Burghard,
Medford District Manager.

[FR Doc. 2022-04428 Filed 3-2-22; 8:45 am]

BILLING CODE 4310-JB-P